DEPARTMENT OF HEALTH AND HUMAN SERVICES

Administration for Children and Families

Submission for OMB Review; Comment Request

Title: Project LAUNCH Cross-Site Evaluation.

OMB No.: 0970-0373.

Description: The Administration for Children and Families (ACF), U.S. Department of Health and Human Services, is planning to collect data as part of a cross-site evaluation of a new initiative called Project LAUNCH (Linking Actions for Unmet Needs in Children's Health). Project LAUNCH is intended to promote the healthy development and wellness of children ages birth to eight years. A total of 24 Project LAUNCH grantees are funded to improve coordination among child-serving systems, build infrastructure, and improve methods for providing services. Grantees will also implement a range of public health strategies to support young child wellness in a designated locality.

Data for the cross-site evaluation of Project LAUNCH will be collected through: (1) interviews conducted either via telephone or during site-visits to Project LAUNCH grantees, and (2) semi-annual reports that will be submitted electronically on a web-based data-entry system. Information will be collected from all Project LAUNCH grantees.

During either telephone interviews or the site visits, researchers will conduct interviews with Project LAUNCH service providers and collaborators in States/Tribes and local communities of focus. Interviewers will ask program administrators questions about all Project LAUNCH activities, including: infrastructure development; collaboration and coordination among partner agencies, organizations, and service providers; and development, implementation, and refinement of service strategies.

As part of the proposed data collection, Project LAUNCH staff will be asked to submit semi-annual electronic reports on State/Tribal and local systems development and on services that children and families receive. The electronic data reports also will collect data about other Project LAUNCH-funded service enhancements, such as trainings, Project LAUNCH systems change activities, and changes in provider settings. Information provided in these reports will be aggregated on a quarterly basis, and reported semi-annually.

Respondents: State/Tribal Child Wellness Coordinator, State/Tribal Wellness Council Members, State ECCS Project Director, Local Child Wellness Coordinator, Local Wellness Council Members, Local Evaluator, and Local Service Providers.

Annual Burden Estimates
Instrument | Annual number of respondents | Number of responses per respondent | Average burden hours per response | Total annual burden hours
Telephone or Site Visit Interview Guide | 240 | 1 | 1.25 | 300
Electronic Data Reporting: Systems Measures | 24 | 2 | 4 | 192
Electronic Data Reporting: Services Measures | 24 | 2 | 8 | 384

Estimated Total Annual Burden Hours: 876.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, submit comments on or before June 2, 2011. Written comments and recommendations for the proposed information collection should be sent directly to the following:

Office of Management and Budget, Paperwork Reduction Project, Fax: 202-395-6974, Attn: Desk Officer for the Administration, for Children and Families.

Dated: April 25, 2011.
Seth F. Chamberlain,
OPRE Reports Clearance, Officer.

[FR Doc. 2011-10410 Filed 5-2-11; 8:45 am]

BILLING CODE 4184-22-M